SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget,

Attn: Desk Officer for SSA,

Fax: 202-395-6974,

Email address: OIRA_Submission@omb.eop.gov.

(SSA)

Social Security Administration, OLCA,

Attn: Reports Clearance Director,

3100 West High Rise,

6401 Security Blvd.,

Baltimore, MD 21235,

Fax: 410-966-2830,

Email address: OR.Reports.Clearance@ssa.gov.

I. The information collections below are pending at SSA. SSA will submit them to OMB within 60 days from the date of this notice. To be sure we consider your comments, we must receive them no later than February 18, 2014. Individuals can obtain copies of the collection instruments by writing to the above email address.

1. Advanced Notice of Termination of Child's Benefits & Student's Statement Regarding School Attendance—20 CFR 404.350-404.352, 404.367-404.368—0960-0105. SSA collects information on Forms SSA-1372-BK and SSA-1372-BK-FC to determine whether children of an insured worker meet the eligibility requirements for student benefits. The data we collect allows SSA to entitlement to initial and continuning student benefits. The respondents are student claimants for Social Security benefits, their respective schools, and, in some cases, their representative payees.

Type of Request: Revision of an OMB-approved information collection.

Type of respondent | Number of respondents | Frequency of response | Average burden per response (minutes) | Estimated total annual burden (hours)
SSA-1372-BK
Individuals/Households | 99,850 | 1 | 8 | 13,313
State/Local/Tribal Government | 99,850 | 1 | 3 | 4,993
Totals | 199,700 |  |  | 18,306
SSA-1372-BK-FC
Individuals/Households | 150 | 1 | 8 | 20
State/Local/TribalGovernment | 150 | 1 | 3 | 8
Totals | 300 |  |  | 28
Grand Total | 200,000 |  |  | 18,334

2. State Mental Institution Policy Review Booklet—20 CFR 404.2035, 404.2065, 416.635, & 416.665—0960-0110. SSA uses Form SSA-9584-BK: (1) To determine if the policies and practices of State mental institutions acting as representative payees for SSA beneficiaries conform to SSA's regulations in the use of benefits; (2) to confirm that institutions are performing other duties and responsibilities required of a representative payees; and (3) as the basis for conducting onsite reviews of the institutions and preparing subsequent reports of findings. The respondents are State mental institutions serving as representative payees for Social Security beneficiaries and Supplemental Security Income (SSI) recipients.

Type of Request: Revision of an OMB-approved information collection.

Modality of completion | Number of respondents | Frequency of response | Average burden per response (minutes) | Estimated total annual burden (hours)
SSA-9584-BK | 78 | 1 | 60 | 78

3. Modified Benefit Formula Questionnaire—0960-0395. SSA collects information on Form SSA-150 to determine which formula to use in computing the Social Security benefit for someone who receives a pension from employment not covered by Social Security. The Windfall Elimination Provision (WEP) requires use of a benefit formula replacing a smaller percentage of a worker's pre-retirement earnings. However, the resulting amount cannot show a difference in the benefit computed using the modified and regular formulas greater than one-half the amount of the pension received in the first month an individual is entitled to both the pension and the Social Security benefit. The SSA-150 collects the information needed to make all the necessary benefit computations. SSA requires the respondents to furnish the information on Form SSA-150 so we can calculate their benefits using the data they supply. SSA calculates the benefits of applicants who do not respond to this questionnaire using the full WEP reduction. SSA employees collect this information once from the applicant at the time they file their claim. The respondents are applicants for old age and disability benefits.

Type of Request: Revision of an OMB-approved information collection.

Modality of completion | Number of respondents | Frequency of response | Average burden per response (minutes) | Estimated total annual burden (hours)
SSA-150 | 90,000 | 1 | 8 | 12,000

4. Employee Identification Statement—20 CFR 404.702—0960-0473. When two or more individuals report earnings under the same Social Security number (SSN), SSA collects information on Form SSA-4156 to credit the earnings to the correct individual and SSN. We send the SSA-4156 to the employer to: (1) identify the employees involved; (2) resolve the discrepancy, and (3) credit the earnings to the correct SSN. The respondents are employers involved in erroneous wage reporting for an employee.

Type of Request: Revision of an OMB-approved information collection.

Modality of completion | Number of respondents | Frequency of response | Average burden per response (minutes) | Estimated total annual burden (hours)
SSA-4156 | 4,750 | 1 | 10 | 792

5. Modified Benefit Formula Questionnaire—Employer—20 CFR 401 & 402—0960-0477. Sections 215(a)(7) and 215(d)(3) of the Social Security Act requires SSA to use WEP, a modified benefit formula, to compute Social Security retirement or disability benefits for persons first eligible (after 1985) for both a Social Security benefit and a pension or annuity, based on employment not covered by Social Security. SSA determines if the WEP is applicable and when to apply it to a person's benefit. SSA uses Form SSA-58 to verify the claimant's allegations on Form SSA-150 (OMB No. 0960-0395, Modified Benefits Formula Questionnaire). SSA sends the SSA-58 to an employer for pension-related information, if the claimant is unable to provide it. The respondents are employers of people who were eligible after 1985 for both Social Security benefits and a pension based on work not covered by SSA.

Type of Request: Revision of an OMB-approved information collection.

Modality of completion | Number of respondents | Frequency of response | Average burden per response (minutes) | Estimated total annual burden (hours)
SSA-58 | 30,000 | 1 | 20 | 10,000

6. Employee Work Activity Questionnaire—20 CFR 404.1574, 404.1592—0960-0483. Social Security disability beneficiaries and SSI recipients qualify for payments when a verified physical or mental impairment prevents them from working. If disability claimants attempt to return to work after receiving payments,but are unable to continue working, they submit the SSA-3033, Employee Work Activity Questionnaire, so SSA can evaluate their work attempt. SSA also uses this form to evaluate unsuccessful subsidy work and determine applicants' continuing eligibility for disability payments. The respondents are employers of Social Security disability beneficiaries and SSI recipients who unsuccessfully attempted to return to work.

Type of Request: Revision of an OMB-approved information collection.

Modality of completion | Number of respondents | Frequency of response | Average burden per response (minutes) | Estimated total annual burden (hours)
SSA-9584-BK | 78 | 1 | 60 | 78

7. Work History Report—20 CFR 404.1515, 404.1560, 404.1565, 416.960, and 416.3965—0960-0578. Under certain circumstances, SSA asks individuals apply for disability about work they have performed in the past. Applicants use Form SSA-3369, Work History Report, to provide detailed information about jobs held prior to becoming unable to work. State Disability Determination Services evaluate the information, together with medical evidence, to determine eligibility for disability payments. Respondents are disability applicants and third parties assisting those applicants.

Type of Request: Revision of an OMB-approved information collection.

Modality of completion | Number of respondents | Frequency of response | Average burden per response (minutes) | Estimated total annual burden (hours)
SSA-3369 (Paper form) | 1,553,900 | 1 | 60 | 1,553,900
Electronic Disability Collect System—3369 | 38,049 | 1 | 60 | 38,049
Totals | 1,591,949 |  |  | 1,591,949

II. SSA submitted the information collection below to OMB for clearance. Your comments regarding the information collection would be most useful if OMB and SSA receive them 30 days from the date of this publication. To be sure we consider your comments, we must receive them no later than January 16, 2014. Individuals can obtain copies of the OMB clearance package by writing to OR.Reports.Clearance@ssa.gov.

Consent Based Social Security Number Verification Process—20 CFR 400.100—0960-0760. The Consent Based Social Security Number Verification (CBSV) process is a fee-based automated SSN verification service available to private businesses and other requesting parties. To use the system, private businesses and requesting parties must register with SSA and obtain valid consent from SSN number holders prior to verification. We collect the information to verify if the submitted name and SSN match the information in SSA records. After completing a registration process and paying the fee, the requesting party can use the CBSV process to submit a file containing the names of number holders who have given valid consent, along with each number holder's accompanying SSN and date of birth (if available) to obtain real-time results using a web service application or SSA's Business Services Online (BSO) application. SSA matches the information against the SSA master file of SSNs, using SSN, name, date of birth, and gender code (if available). The requesting party retrieves the results file from SSA, which indicates only a match or no match for each SSN submitted.

Under the CBSV process, the requesting party does not submit the consent forms of the number holders to SSA. SSA requires each requesting party to retain a valid consent form for each SSN verification request. The requesting party retains the consent forms in either electronic or paper format.

To ensure the integrity of the CBSV process, SSA has added a strong audit component that requires audits (called “compliance reviews”) at the discretion of the agency with all audit costs paid by the requesting party. Independent certified public accounts (CPAs) conduct these reviews to ensure compliance with all the terms and conditions of the party's agreement with SSA, including a review of the consent forms. CPAs conduct the reviews at the requesting party's place of business to ensure the integrity of the process. In addition, SSA reserves the right to perform unannounced onsite inspections of the entire process, including review of the technical systems that maintain the data and transaction records. The respondents to the CBSV collection are the participating companies, members of the public who consent to the SSN verification, and CPAs who provide compliance review services.

Note: This is a correction notice: SSA published the incorrect burden information for this collection at 78 FR 59411, on 9/26/13. We are correcting this error here.

Type of Request: Revision of an OMB-approved information collection.

Time Burden—Participating Companies
Requirement | Number of respondents | Frequency of response | Number of responses | Average burden per response (minutes) | Total estimated annual burden (hours)
Registration process for new participating companies. | * 14 | 1 | 14 | 120 | 28
Creation of file with SSN holder identification data; maintaining required documentation/forms. | 90 | ** 251 | 22,590 | 60 | 22,590
Using the system to upload request file, check status, and download results file. | 90 | 251 | 22,590 | 5 | 1,883
Storing Consent Forms | 90 | 251 | 22,590 | 60 | 22,590
Activities related to compliance review | 90 | 251 | 22,590 | 60 | 22,590
Total |  |  | 90,374 |  | 69,681
* One-time registration process/approximately 14 new participating companies per year.
** Please note there are 251 Federal business days per year on which a requesting party could submit a file.

Participating Companies Who Opt for External Testing Environment (ETE)
Requirement | Number of respondents | Frequency of response | Number of responses | Average burden per response (minutes) | Total estimated annual burden (hours)
ETE Registration Process (includes reviewing and completing ETE User Agreement) | 20 | 1 | 1 | 180 | 60
Web Service Transactions | 20 | 1 | 50 | 1 | 17
Reporting Issues Encountered on Web service testing (e.g., reports on application's reliability) | 20 | 1 | 50 | 1 | 17
Reporting changes in users' status (e.g., termination or changes in users' employment status; changes in duties of authorized users) | 20 | 1 | 1 | 60 | 20
Cancellation of Agreement | 20 | 1 | 1 | 30 | 10
Dispute Resolution | 20 | 1 | 1 | 120 | 40
Total | 20 |  |  |  | 144

People Whose SSNs SSA Will Verify
Requirement | Number of respondents | Frequency of response | Number of responses | Average burden per response (minutes) | Total estimated annual burden (hours)
Reading and signing authorization for SSA to release SSN verification | 2,500,000 | 1 | 2,500,000 | 3 | 125,000
Responding to CPA re-contact | 5,750 | 1 | 5,750 | 5 | 479
Total | 2,505,750 |  | 2,165,872 |  | 125,479

There is one CPA respondent conducting compliance reviews and preparing written reports of findings. The average burden per response is 4,800 minutes for a total burden of 7,200 hours annually.

Cost Burden

The public burden cost is dependent upon the number of companies and transactions. SSA based the cost estimates below upon 90 participating companies submitting a total 2.5 million transactions per year.

One-Time per Company Registration Fee—$5,000.

Estimated per SSN Transaction Fee—$1.10.ⁱ

ⁱ The annual costs associated with the transaction to each company are dependent upon the number of SSN transactions submitted to SSA by the company on a yearly basis. For example, if a company anticipates submitting 1 million requests to SSA for the year, its total transaction cost for the year would be $1.10 × 1,000,000, or $1,100,000. Periodically, SSA will calculate our costs to provide CBSV services and adjust the fee charged as needed. SSA notifies companies in writing and via Federal Register Notice of any changes and companies have the opportunity to cancel the agreement or continue service using the new transaction fee.

Estimated per Company Cost to Store Consent Forms—$300.

Dated: December 12, 2013.
Faye Lipsky,
Reports Clearance Director, Social Security Administration.

[FR Doc. 2013-29907 Filed 12-16-13; 8:45 am]

BILLING CODE 4191-02-P